DEPARTMENT OF THE INTERIOR

Bureau of Land Management

[WY-957-1420-BJ-P]

Filing of Plats of Survey; Wyoming

AGENCY: Bureau of Land Management, Interior.

ACTION: Notice.

The plat representing the dependent resurvey of a portion of the Sixth Standard Parallel North, through Ranges 87 and 88 West, the Eleventh Guide Meridian West, through Township 24 North, between Ranges 88 and 89 West, portions of the south and east boundaries, and subdivisional lines, T. 24 N., R. 88 W., Sixth Principal Meridian, Wyoming, Group No. 636, was accepted January 23, 2002.

The plat representing the dependent resurvey of a portion of the Sixth Standard Parallel North, through Ranges 88 and 89 West, a portion of the west boundary and the subdivisional lines, T. 24 N., R. 89 W., Sixth Principal Meridian, Wyoming, Group No. 636, was accepted January 23, 2002.

The plat representing the dependent resurvey of a portion of the Twelfth Auxiliary Guide Meridian West, through Township 33 North, between Ranges 100 and 101 West, and a portion of the subdivisional lines, and the subdivision of certain sections, T. 33 N., R. 100 W., Sixth Principal Meridian, Wyoming, Group No. 660, was accepted January 23, 2002.

The plat representing the corrective dependent resurvey of Tract 37 and portions of Tracts 40 and 41, and the dependent resurvey of portions of the west boundary, subdivisional lines, and the subdivision of section lines, T. 51 N., R. 97 W., Sixth Principal Meridian, Wyoming, Group No. 661, was accepted January 23, 2002.

The plat representing the dependent resurvey of a portion of the subdivisional lines and the subdivision of sections 7, 17 and 18, T. 14 N., R. 84 W., Sixth Principal Meridian, Wyoming, Group No. 667, was accepted January 23, 2002.

The plat representing the dependent resurvey of a portion of the subdivisional lines and the subdivision of section 26, T. 26 N., R. 84 W., Sixth Principal Meridian, Wyoming, Group No. 670, was accepted January 23, 2002.

The plat representing the subdivision of section 11, T. 2 N., R. 5 W., and the survey of a portion of the Wind River Roadless and Wild Area Boundary, through Townships 2 and 3 North, Range 5 West, and Township 3 North, Range 6 West, Wind River Meridian, Wyoming, Group 677, was accepted January 23, 2002.

FOR FURTHER INFORMATION CONTACT: John P. Lee, (307) 775-6216, Bureau of Land Management, 5353 Yellowstone Road, Cheyenne, Wyoming 82009.

Dated: February 6, 2002.
John P. Lee,
Chief Cadastral Surveyor for Wyoming.

[FR Doc. 02-16007 Filed 6-24-02; 8:45 am]

BILLING CODE 4310-22-P